GENERAL SERVICES ADMINISTRATION

41 CFR Chapter 302

[Notice-MA-2023-08; Docket No. 2023-0002; Sequence No. 31]

Federal Travel Regulation (FTR); Relocation Allowances—Waiver of Certain Provisions for Official Relocation Travel to Locations in Florida and South Carolina Impacted by Hurricane Idalia

AGENCY: Office of Government-wide Policy (OGP), General Services Administration (GSA).

ACTION: Notification of GSA Bulletin FTR 23-08.

SUMMARY: GSA Bulletin FTR 23-08, Waiver of certain Federal Travel Regulation (FTR) provisions for official relocation travel to locations in Florida and South Carolina impacted by Hurricane Idalia, informs Federal agencies that certain provisions of the FTR governing official relocation travel are temporarily waived for Florida and South Carolina locations impacted by Hurricane Idalia. As a result of the storm damage caused by Hurricane Idalia, agencies should consider delaying all non-essential relocations to the affected areas given the statutory 120-day maximum for payment of temporary quarters subsistence expenses (TQSE). Due to the lasting effects of the storm damage to these affected areas, finding lodging facilities and/or adequate meals may be difficult, and distance involved may be great, resulting in increased cost for relocation subsistence expenses.

DATES: Applicability date: The notification is retroactively applicable for official relocation travel impacted by Hurricane Idalia that is/was performed on or after the incident period start dates: (a) August 27, 2023, based on Presidential Disaster Declaration EM-3596-FL dated August 28, 2023, to designated areas in Florida, (b) August 27, 2023, based on Presidential Disaster Declaration DR-4734-FL dated August 31, 2023, to designated areas in Florida, and (c) August 29, 2023, based on Presidential Disaster Declaration EM-3597-SC dated August 31, 2023, to designated areas in South Carolina. The FTR Bulletin expires 180 days from the respective applicability dates, unless extended or rescinded by this office.

FOR FURTHER INFORMATION CONTACT: Mr. Rick Miller, Senior Policy Analyst, Office of Government-wide Policy, Office of Asset and Transportation Management, at 202-501-3822 or by email at travelpolicy@gsa.gov. Please cite Notice of GSA Bulletin FTR 23-08.

SUPPLEMENTARY INFORMATION:

Background

Federal agencies authorize relocation entitlements to those individuals listed at FTR § 302-1.1 and those assigned under the Government Employees Training Act (GETA) (5 U.S.C. Chapter 41) which must be used within one year. Some agencies will authorize TQSE and a Househunting trip (HHT) to assist employees with temporary expenses incurred in connection with relocating to a new duty station. The FTR limits where temporary lodging may occur, how long employees may receive assistance, and what per diem rates are paid. Hurricane Idalia has affected locations in Florida and South Carolina, which has resulted in various travel-related disruptions to relocating employees. Accordingly, this GSA FTR Bulletin allows agencies to determine whether to implement waivers of time limits established by the FTR for completion of all aspects of relocation, permissible locations of temporary quarters, and per diem rates for HHTs and TQSE.

GSA Bulletin FTR 23-08 can be viewed at https://www.gsa.gov/ftrbulletins.

Krystal J. Brumfield,
Associate Administrator, Office of Government-wide Policy.

[FR Doc. 2023-20050 Filed 9-14-23; 8:45 am]

BILLING CODE 6820-14-P